DEPARTMENT OF HEALTH AND HUMAN SERVICES

Office of the Secretary

Office for Civil Rights; Statement of Delegation

Notice is hereby given that I have delegated to the Director of the Office for Civil Rights (OCR), with authority to redelegate, the responsibility to coordinate the implementation and enforcement of Section 508 of the Rehabilitation Act of 1973, 29 U.S.C. 794d, as amended, relating to programs and activities conducted by the Department.

Pursuant to this delegation, the Director of the office for Civil Rights shall have the authority to:

(1) accept and investigate complaints, other than employment discrimination complaints of employees or applicants for employment at the Department, filed by individuals alleging a failure to comply with Section 508 of the Rehabilitation Act consistent with the procedures at 45 CFR part 85;

(2) provide technical assistance to other departmental components regarding the processing and resolution of Section 508 non-employment discrimination complaints;

(3) evaluate the effectiveness of Section 508 complaint processing by OCR and provide reports to appropriate oversight organizations; and

(4) initiate such other actions as may be necessary to facilitate and ensure compliance with Section 508 of the Rehabilitation Act consistent with the procedures at 45 CFR part 85.

If the OCR Director chooses to redelegate this authority, the OCR Director will maintain primary responsibility and accountability for implementation of this section.

This delegation is effective immediately.

Dated: August 30, 2001.
Tommy G. Thompson,
Secretary.

[FR Doc. 01-22958 Filed 9-12-01; 8:45 am]

BILLING CODE 4153-01-M